DEPARTMENT OF COMMERCE

International Trade Administration

[A-580-809]

Circular Welded Non-Alloy Steel Pipe From the Republic of Korea: Preliminary Results of Antidumping Duty Administrative Review; 2022-2023

AGENCY: Enforcement and Compliance, International Trade Administration, Department of Commerce.

SUMMARY: The U.S. Department of Commerce (Commerce) preliminarily finds that circular welded non-alloy steel pipe (CWP) from the Republic of Korea (Korea) was sold at less than normal value (NV) during the period of review (POR), November 1, 2022, through October 31, 2023. Additionally, Commerce determines that one mandatory respondent did not make sales of subject merchandise at less than NV during the POR. We invite interested parties to comment on these preliminary results.

DATES: Applicable December 13, 2024.

FOR FURTHER INFORMATION CONTACT: Benjamin Nathan or Mira Warrier, AD/CVD Operations, Office II, Enforcement and Compliance, International Trade Administration, U.S. Department of Commerce, 1401 Constitution Avenue NW, Washington, DC 20230; telephone: (202) 482-3834 or 202-482-8031, respectively.

SUPPLEMENTARY INFORMATION:

Background

On November 2, 1992, Commerce published in the Federal Register the antidumping duty (AD) order on CWP from Korea.¹ On November 1, 2022, Commerce published in the Federal Register a notice of opportunity to request an administrative review of the Order.² On December 29, 2023, based on timely requests for review, in accordance with 19 CFR 351.221(c)(1)(i), we initiated an administrative review of the Order covering 26 producers/exporters.³ On February 27, 2024, we selected Husteel Co., Ltd. (Husteel) and Hyundai Steel Company (Hyundai Steel) ⁴ for individual examination as mandatory respondents in this administrative review.⁵

¹ See Notice of Antidumping Orders: Certain Circular Welded Non-Alloy Steel Pipe from Brazil, the Republic of Korea (Korea), Mexico, and Venezuela, and Amendment to Final Determination of Sales at Less Than Fair Value: Certain Circular Welded Non-Alloy Steel Pipe from Korea, 57 FR 49453 (November 2, 1992) (Order).

² See Antidumping or Countervailing Duty Order, Finding, or Suspended Investigation; Opportunity to Request Administrative Review and Join Annual Inquiry Service List, 87 FR 65750 (November 1, 2022).

³ See Initiation of Antidumping and Countervailing Duty Administrative Reviews, 88 FR 90168 (December 29, 2023); see also Circular Welded Non-Alloy Steel Pipe from the Republic of Korea; Certain Oil Country Tubular Goods from the Republic of Korea; Welded Line Pipe from the Republic of Korea; and Large Diameter Welded Pipe from the Republic of Korea: Notice of Final Results of Antidumping Duty Changed Circumstances Reviews, 89 FR 89962 (November 14, 2024) (Hyundai Steel CCR), determining that Hyundai Steel Pipe Co., Ltd. is the successor-in-interest to Hyundai Steel Company.

⁴ We note that in the context of the Hyundai Steel CCR, Commerce determined that Hyundai Steel Pipe Co., Ltd. is the successor-in-interest to the mandatory respondent, Hyundai Steel. At the completion of the final results of this review, the cash deposit rate applicable to Hyundai Steel will be applicable to Hyundai Steel Pipe Co., Ltd.

⁵ See Memorandum, “Respondent Selection,” dated February 27, 2024.

On July 17, 2024, Commerce extended the deadline to issue the preliminary results of this review until November 29, 2024.⁶ On July 22, 2024, Commerce tolled certain deadlines in this administrative proceeding by seven days.⁷ The deadline for the preliminary results is now December 6, 2024. For a complete description of the events that followed the initiation of this review, see the Preliminary Decision Memorandum.⁸

⁶ See Memorandum, “Tolling of Deadlines for Antidumping and Countervailing Duty Proceedings,” dated July 22, 2024.

⁷ See Memorandum, “Extension of Deadline for Preliminary Results,” dated July 17, 2024.

⁸ See Memorandum, “Decision Memorandum for the Preliminary Results of the 2022-2023 Administrative Review of the Antidumping Duty Order on Circular Welded Non-Alloy Steel Pipe from the Republic of Korea,” dated concurrently with, and hereby adopted by, this notice (Preliminary Decision Memorandum).

Scope of the Order

The merchandise covered by the scope of the Order is CWP from Korea. For a complete description of the scope of the Order, see the Preliminary Decision Memorandum.

Rescission of Administrative Review in Part

Pursuant to 19 CFR 351.213(d)(1), Commerce will rescind an administrative review if a party that requested a review withdraws the request within 90 days of the date of publication of notice of initiation of the requested review. On March 13, 2024, Wheatland Tube Company timely withdrew its request for review with respect to three companies.⁹ Because no other parties requested a review of these companies, we are rescinding this review, in part, with respect to the following three companies: SeAH Steel VINA Corporation, Hoa Sen Group, and Hoa Phat Steel Pipe Co Ltd.

⁹ See Wheatland Tube Company's Letter, “Withdrawal Request for Administrative Reviews,” dated March 13, 2024.

Methodology

Commerce is conducting this review in accordance with sections 751(a)(1)(B) and (2) of the Tariff Act of 1930, as amended (the Act). Constructed export price is calculated in accordance with section 772 of the Act. NV is calculated in accordance with section 773 of the Act.

For a full description of the methodology underlying these preliminary results, see the Preliminary Decision Memorandum. A list of topics discussed in the Preliminary Decision Memorandum is attached as Appendix II to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Rate for Non-Selected Companies

The statute and Commerce's regulations do not address the establishment of a weighted-average dumping margin to be determined for companies not selected for individual examination when Commerce limits its examination in an administrative review pursuant to section 777A(c)(2) of the Act. Generally, Commerce looks to section 735(c)(5) of the Act, which provides instructions for calculating the all-others rate in an investigation, for guidance when determining the weighted-average dumping margin for companies which were not selected for individual examination in an administrative review. Under section 735(c)(5)(A) of the Act, the all-others rate is normally “an amount equal to the weighted average of the estimated weighted average dumping margins established for exporters and producers individually investigated, excluding any zero and de minimis margins, and any margins determined entirely {on the basis of facts available}.”

In this review, we have preliminarily calculated a de minimis weighted-average dumping margin for Hyundai Steel and calculated an above de minimis weighted-average dumping margin for Husteel. Accordingly, we have preliminarily assigned Husteel's estimated weighted-average dumping margin to the 21 non-selected companies,¹⁰ consistent with section 735(c)(5)(B) of the Act.

¹⁰ See Appendix I for a list of the non-selected companies.

Preliminary Results of Review

Commerce preliminarily determines that the following estimated weighted-average dumping margins exist for the period November 1, 2022, through October 31, 2023:

Producer or exporter | Weighted- average dumping margin (percent)
Husteel Co., Ltd | 1.21
Hyundai Steel Company ¹¹ | 0.01
Non-selected Companies ¹² | 1.21

Disclosure and Public Comment

¹¹ See Hyundai Steel CCR for information pertaining to the status of Hyundai Steel's successor-in-interest. As explained above, following the completion of the final results, the cash deposit rate applicable to Hyundai Steel will be applicable to Hyundai Steel's successor-in-interest, Hyundai Steel Pipe Co., Ltd.

¹² See Appendix I for a list of the non-selected companies.

Commerce intends to disclose the calculations and analysis performed to interested parties for these preliminary results within five days after public announcement or, if there is no public announcement, within five days after the date of publication of this notice in the Federal Register, in accordance with 19 CFR 351.224(b).

Interested parties may submit case briefs to Commerce no later than 30 days after the date of publication of this notice.¹³ Rebuttal briefs, limited to issues raised in the case briefs, may be filed no later than five days after the date for filing case briefs.¹⁴ Interested parties who submit case or rebuttal briefs in this proceeding must submit: (1) a statement of the issue; (2) a brief summary of the argument; and (3) a table of authorities.¹⁵

¹³ See 19 CFR 351.309(c)(1)(ii).

¹⁴ See 19 CFR 351.309(d); see also Administrative Protective Order, Service, and Other Procedures in Antidumping and Countervailing Duty Proceedings, 88 FR 67069, 67077 (September 29, 2023) (APO and Final Service Rule).

¹⁵ See 19 CFR 351.309(c)(2) and (d)(2).

As provided under 19 CFR 351.309(c)(2) and (d)(2), in prior proceedings we have encouraged interested parties to provide an executive summary of their brief that should be limited to five pages total, including footnotes. In this administrative review, we instead request that interested parties provide at the beginning of their briefs a public executive summary for each issue raised in their briefs.¹⁶ Further, we request that interested parties limit their executive summary of each issue to no more than 450 words, not including citations. We intend to use the executive summaries as the basis of the comment summaries included in the issues and decision memorandum that will accompany the final results in this review. We request that interested parties include footnotes for relevant citations in the executive summary of each issue. Note that Commerce has amended certain of its requirements pertaining to the service of documents in 19 CFR 351.303(f).¹⁷

¹⁶ We use the term “issue” here to describe an argument that Commerce would normally address in a comment of the Issues and Decision Memorandum.

¹⁷ See APO and Final Service Rule.

Pursuant to 19 CFR 351.310(c), interested parties who wish to request a hearing must submit a written request to the Assistant Secretary for Enforcement and Compliance, filed electronically via ACCESS. Hearing requests should contain: (1) the party's name, address, and telephone number; (2) the number of participants and whether any participant is a foreign national; and (3) a list of issues to be discussed. Issues raised in the hearing will be limited to issues raised in the respective case briefs. If a request for a hearing is made, Commerce intends to hold the hearing at a date and time to be determined and will notify the parties through ACCESS.¹⁸ Parties should confirm the date, time, and location of the hearing two days before the scheduled date. All submissions, including case and rebuttal briefs, as well as hearing requests, should be filed using ACCESS. An electronically-filed document must be received successfully in its entirety by ACCESS by 5:00 p.m. Eastern Time on the established deadline.

¹⁸ See 19 CFR 351.310(d).

Assessment Rates

Pursuant to section 751(a)(2)(A) of the Act, upon completion of the final results of this administrative review, Commerce shall determine, and U.S. Customs and Border Protection (CBP) shall assess, antidumping duties on all appropriate entries of subject merchandise covered by this review.¹⁹ If a respondent's weighted-average dumping margin is not zero or de minimis (i.e., less than 0.50 percent) in the final results of this review, we intend to calculate an importer-specific ad valorem AD assessment rate based on the ratio of the total amount of dumping calculated for each importer's examined sales to the total entered value of those same sales in accordance with 19 CFR 351.212(b)(1).²⁰ If the weighted-average dumping margin or an importer-specific assessment rate is zero or de minimis in the final results of review, we intend to instruct CBP to liquidate entries without regard to antidumping duties.²¹

¹⁹ See 19 CFR 351.212(b).

²⁰ See Antidumping Proceedings: Calculation of the Weighted-Average Dumping Margin and Assessment Rate in Certain Antidumping Proceedings: Final Modification, 77 FR 8101, 8103 (February 14, 2012).

²¹ Id., 77 FR at 8102; see also 19 CFR 351.106(c)(2).

In accordance with Commerce's “automatic assessment” practice, for entries of subject merchandise during the POR produced by Husteel or Hyundai Steel for which it did not know that the merchandise was destined for the United States, we intend to instruct CBP to liquidate those entries at the all-others rate in the original less-than-fair-value (LTFV) investigation (i.e., 4.80 percent) ²² if there is no rate for the intermediate company(ies) involved in the transaction.²³

²² See Circular Welded Non-Alloy Steel Pipe from Korea: Notice of Final Court Decision and Amended Final Determination, 60 FR 55833 (November 3, 1995) (CWP Amended Final Determination).

²³ See Order; see also Antidumping and Countervailing Duty Proceedings: Assessment of Antidumping Duties, 68 FR 23954 (May 6, 2003).

For the companies listed in Appendix I which were not selected for individual review, we will assign an assessment rate based on the review-specific rate, calculated as noted in the “Rate for Non-Individually Examined Companies” section, above. The final results of this review shall be the basis for the assessment of antidumping duties on entries of merchandise covered by the final results of this review and for future deposits of estimated duties, where applicable.²⁴

²⁴ See section 751(a)(2)(C) of the Act.

For the companies listed above for which this review is being rescinded, antidumping duties shall be assessed on entries at rates equal to the cash deposit of estimated antidumping duties required at the time of entry, or withdrawal from warehouse, for consumption, in accordance with 19 CFR 351.212(c)(1)(i). Commerce intends to issue assessment instructions to CBP for the rescinded companies no earlier than 35 days after the date of publication of this notice in the Federal Register.

The final results of this administrative review shall be the basis for the assessment of antidumping duties on entries of merchandise covered by the final results of this review and for future deposits of estimated duties, where applicable.²⁵

²⁵ Id.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective upon publication in the Federal Register of the notice of final results of administrative review for all shipments of the subject merchandise entered, or withdrawn from warehouse, for consumption on or after the date of publication, as provided by section 751(a)(2)(C) of the Act: (1) the cash deposit rate for the companies listed above will be equal to the weighted-average dumping margin established in the final results of this review, except if the rate is less than 0.50 percent and, therefore, de minimis within the meaning of 19 CFR 351.106(c)(1), in which case the cash deposit rate will be zero; (2) for merchandise exported by producers or exporters not covered in this review but covered in a prior segment of the proceeding, the cash deposit rate will continue to be the company-specific rate published for the most recently-completed segment of this proceeding in which they were reviewed; (3) if the exporter is not a firm covered in this review, a prior review, or the original LTFV investigation, but the producer is, then the cash deposit rate will be the cash deposit rate established for the most recently completed segment of this proceeding for the producer of the merchandise; and (4) the cash deposit rate for all other producers or exporters will continue to be 4.80 percent,²⁶ the all-others rate established in the LTFV investigation.²⁷ These cash deposit requirements, when imposed, shall remain in effect until further notice.

²⁶ See CWP Amended Final Determination.

²⁷ See Order.

Final Results of Review

Unless the deadline is otherwise extended, Commerce intends to issue the final results of this administrative review, including the results of its analysis of issues raised by interested parties in the written comments, within 120 days after the date of publication of these preliminary results in the Federal Register.²⁸

²⁸ See section 751(a)(3)(A) of the Act; and 19 CFR 351.213(h).

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of doubled antidumping duties.

Notification to Interested Parties

We are issuing and publishing these preliminary results in accordance with sections 751(a)(1) and 777(i)(1) of the Act, and 19 CFR 351.221(b)(4).

Dated: December 6, 2024.
Abdelali Elouaradia,
Deputy Assistant Secretary for Enforcement and Compliance.

Appendix I

Companies Not Selected for Individual Examination

1. Aju Besteel.

2. Bookook Steel.

3. Chang Won Bending.²⁹

²⁹ We note that in the Initiation Notice, this company was inadvertently listed as Chan Won Bending. The correct name is Chang Won Bending.

4. Dae Ryung.

5. Daewoo Shipbuilding & Marine Engineering (DSME).

6. Daiduck Piping.

7. Dong Yang Steel Pipe.

8. Dongbu Steel Co., Ltd.; Dongbu Steel.

9. EEW Korea Company.

10. Histeel Co., Ltd. Histeel.

11. Hyundai RB.

12. Kiduck Industries.

13. Kum Kang Kind.

14. Kumsoo Connecting.

15. Miju Steel Mfg.

16. NEXTEEL Co., Ltd.

17. Samkand M & T.

18. Seah FS.

19. SeAH Steel Corporation; Seah Steel.

20. Steel Flower.

21. YCP Co., Ltd.

Appendix II

List of Topics Discussed in the Preliminary Decision Memorandum

I. Summary

II. Background

III. Scope of the Order

IV. Discussion of the Methodology

V. Currency Conversion

VI. Recommendation

[FR Doc. 2024-29429 Filed 12-12-24; 8:45 am]

BILLING CODE 3510-DS-P